DEPARTMENT OF JUSTICE

Notice of Lodging of Proposed Fourth Amendment to the Consent Decree Under the Clean Air Act

Notice is hereby given that on August 17, 2012, a proposed Fourth Amendment to Consent Decree was lodged with the United States District Court for the Eastern District of Pennsylvania in United States of America; Commonwealth of Pennsylvania; City of Philadelphia; State of Oklahoma; and State of Ohio v. Sunoco, Inc., Civil Action 05-02866.

The Court entered the Original Consent Decree in this case on March 21, 2006. The Court entered the First Amendment to the Consent Decree on June 3, 2009. On August 31, 2011, the Court entered and approved the Second and Third Amendments to the Consent Decree.

This Fourth Amendment to the Consent Decree proposes four revisions to the consent decree. They are: (1) A transfer of uncompleted or ongoing responsibilities for the Philadelphia Refinery to PES R&M LLC; (2) an extension of the time for achieving final SO2 and NOx emissions limits at Philadelphia's 868 FCCU from 2014 until 2016; (3) allowance of the emissions reductions achieved by reaching the final SO2 and NOx limits on the 868 FCCU or achieved from the permanent shut down of the Marcus Hook Refinery (to the extent the Philadelphia and Marcus Hook Refineries are determined to be a single source) to be used as credits or offsets in any PSD, major non-attainment and or minor NSR permits provided that the new or modified units meet BACT; and (4) a requirement to install, operate and maintain fence line monitoring of refinery pollutants.

Sunoco has completed the installation of the WGS and SCR at the Philadelphia 1232 FCCU as required under the Consent Decree. PES R&M LLC will step into the shoes of Sunoco for all injunctive relief requirements that have not yet been fulfilled or that are ongoing. The amendment changes references from “Sunoco” where appropriate to “PES R&M LLC”, and changes other references, where there are similar requirements across all refineries, to “PES R&M LLC (with regard to the Philadelphia refinery).”

The publication of this notice opens a period for public comment on the Fourth Amendment to the Consent Decree. Comments should be addressed to the Assistant Attorney General, Environment and Natural Resources Division, and should refer to United States of America; Commonwealth of Pennsylvania; City of Philadelphia; State of Oklahoma; and State of Ohio v. Sunoco, Inc., Civil Action 05-02866, Department of Justice No. 90-5-2-1-1744/1. All comments must be submitted no later than thirty (30) days after the publication date of this notice. Comments may be submitted by email to pubcomment-ees.enrd@usdoj.gov or mailed to the Assistant Attorney General, U.S. DOJ—ENRD, P.O. Box 7611, Washington, DC 20044-7611.

During the public comment period, the Proposed Fourth Amendment to the Consent Decree may be examined and downloaded for free at the following Department of Justice Web site: http://www.usdoj.gov/enrd/Consent_Decrees.html. A copy of the Proposed Fourth Amendment to the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $8.00 (25 cents per page reproduction cost) payable to the U.S. Treasury or, if requesting by email or fax, forward a check in that amount to the Consent Decree Library at the address given above.

Robert D. Brook,
Assistant Section Chief, Environmental Enforcement Section, Environment and Natural Resources Division.

[FR Doc. 2012-20806 Filed 8-23-12; 8:45 am]

BILLING CODE 4410-15-P